DEPARTMENT OF HEALTH AND HUMAN SERVICES

Administration for Children and Families

Expedited OMB Review: Proposed Information Collection Activity; National Human Trafficking Training and Technical Assistance Center (NHTTAC) Evaluation Package (OMB #0970-0519)

AGENCY: Office on Trafficking in Persons; Administration for Children and Families; Department of Health and Human Services.

ACTION: Request for public comment.

SUMMARY: The Office on Trafficking of Persons (OTIP), Administration for Children and Families (ACF), U.S. Department of Health and Human Services (HHS), is requesting expedited review of an information collection request from OMB for an increase in the number of respondents to the previously approved information collection, National Human Trafficking Training and Technical Assistance Center (NHTTAC) Evaluation Package (OMB #0970-0519, expiration 10/31/2021). This will increase the estimated burden hours from 689 hours to 9,495 hours. In addition, the previously approved SOAR Online participant feedback form has been restructured into a long and a short form to reduce burden for information collected on SOAR Online training participants outside of the NHTTAC learning management system. There are no changes requested to the items on any forms.

DATES: ACF is requesting that OMB approve this request under procedures for emergency processing by December 20, 2019.

ADDRESSES: Copies of the proposed collection of information can be obtained by emailing infocollection@acf.hhs.gov. All requests should identify the title of the information collection. Written comments and recommendations for the proposed information collection should be sent directly to the following: Office of Management and Budget, Paperwork Reduction Project, Email: OIRA_SUBMISSION@OMB.EOP.GOV, Attn: Desk Officer for the Administration for Children and Families.

SUPPLEMENTARY INFORMATION:

Description: ACF is requesting that OMB grant a 180 day approval for this request under procedures for expedited processing by December 20, 2019. A request for review under normal procedures will be submitted within 180 days of the approval for this request. These changes are requested due to the passage of the Stop, Observe, Ask, and Respond to Health and Wellness Act of 2018 (Pub. L. 115-398) which expands the SOAR to Health and Wellness Training Program. To meet the provisions of the SOAR to Health and Wellness Act of 2018, OTIP's NHTTAC must expand the administration of SOAR nationwide.

The NHTTAC delivers training and technical assistance (T/TA) to inform and deliver a public health response to trafficking. In applying a public health approach, NHTTAC holistically builds the capacity of communities to identify and respond to the complex needs of all individuals who have been trafficked and address the root causes that put individuals, families, and communities at risk of trafficking. This will ultimately help improve the availability and delivery of coordinated and trauma-informed services before, during, and after an individual's trafficking exploitation, regardless of their age, gender, nationality, sexual orientation, or type of exploitation.

NHTTAC hosts a variety of services, programs, and facilitated sessions to improve service provision to individuals who have been trafficked or who are at risk of trafficking, including The Human Trafficking Leadership Academy (HTLA); the Survivor Fellowship Program; the NHTTAC Call Center; both short-term and specialized T/TA requests (requests that take less than 3 hours or 3 or more hours to fulfill, respectively); OTIP-funded grantees; and information through NHTTAC's website, resources, and materials about trafficking.

Respondents: Individuals and organizations such as NHTTAC consultants, training and technical assistance participants, Human Trafficking Leadership Academy program participants, Survivor fellows, OTIP grantees, visitors to the NHTTAC website, NHTTAC-supported conference and meeting attendees, members of the National Advisory Council, and scholarship applicants.

Annual Burden Estimates: The following instruments have an increased number of respondents. The number of respondents for all other previously approved instruments remains the same. The increase in respondents increases the overall burden under OMB #0970-0519 from 689 hours to 9,495 hours.

Instrument | Original estimate— number of respondents | Updated estimate— number of respondents | Number of responses per respondent | Average burden hours per response | Updated annual burden hours
HTLA Fellowship Pre-Program Feedback | 24 | 36 | 1 | 0.25 | 9
HTLA Fellowship Post-Program Feedback | 24 | 36 | 1 | 0.25 | 9
OTIP Grantee Feedback Form | 50 | 100 | 1 | 0.167 | 17
Short-Term T/TA Feedback Form | 30 | 50 | 1 | 0.167 | 8
Specialized T/TA Feedback Form | 50 | 100 | 1 | 0.25 | 25
Focus Group Demographic Survey | 25 | 50 | 1 | 0.033 | 2
Focus Group Guide | 25 | 50 | 1 | 0.75 | 38
Follow-up Feedback Form | 300 | 500 | 1 | 0.133 | 67
Interview Guide | 25 | 65 | 1 | 0.75 | 49
Pilot Feedback Form | 25 | 50 | 1 | 0.15 | 8
SOAR Blended Learning Participant | 30 | 130 | 1 | 0.15 | 20
SOAR Online Participant Feedback Long Form | 1,500 | 5,300 | 1 | 0.1 | 530
SOAR Online Participant Feedback Short Form |  | 1,000,000 | 1 | 0.0083 | 8,300
SOAR Organizational Feedback Form | 20 | 40 | 1 | 0.133 | 5

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 22 U.S. Code 7104 and 22 U.S. Code 7105(c)(4).

Mary B. Jones,
ACF/OPRE Certifying Officer.

[FR Doc. 2019-24200 Filed 11-5-19; 8:45 am]

BILLING CODE 4184-47-P